ENVIRONMENTAL PROTECTION AGENCY

40 CFR Part 300

[EPA-HQ-SFUND-1989-0008; FRL-9959-86-Region 3]

National Oil and Hazardous Substances Pollution Contingency Plan; National Priorities List: Partial Deletion of the North Penn Area 6 Superfund Site

AGENCY: Environmental Protection Agency.

ACTION: Final rule.

SUMMARY: The Environmental Protection Agency (EPA) Region III announces the deletion of a portion of the North Penn Area 6 Superfund Site (Site) located in Lansdale Borough, Montgomery County, Pennsylvania, from the National Priorities List (NPL). The deletion affects approximately 6.5 acres located at 135 East Hancock Street (the “Administrative Parcel”). The NPL, promulgated pursuant to section 105 of the Comprehensive Environmental Response, Compensation, and Liability Act (CERCLA) of 1980, as amended, is an appendix of the National Oil and Hazardous Substances Pollution Contingency Plan (NCP). This partial deletion pertains to the soils and groundwater of the Administrative Parcel portion of the Site. The other portions of the Site will remain on the NPL and are not being considered for deletion as part of this action. The EPA and the Commonwealth of Pennsylvania, through the Pennsylvania Department of Environmental Protection (PADEP), have determined that all appropriate response actions under CERCLA, other than monitoring and five-year reviews, have been completed. However, the deletion of the Administrative Parcel does not preclude future actions under Superfund.

DATES: This action is effective March 3, 2017.

ADDRESSES: EPA has established a docket for this action under Docket Identification No. EPA-HQ-SFUND-1989-0008. All documents in the docket are listed on the http://www.regulations.gov Web site. Although listed in the index, some information is not publicly available, i.e., Confidential Business Information or other information whose disclosure is restricted by statute. Certain other material, such as copyrighted material, is not placed on the Internet and will be publicly available only in hard copy form. Publicly available docket materials are available either electronically through http://www.regulations.gov or in hard copy at the site information repositories. Locations, contacts, phone numbers and viewing hours are:

• U.S. EPA Region III, Superfund Records Center, 6th Floor, 1650 Arch Street, Philadelphia, PA 19103-2029; phone (215) 814-3157, Monday through Friday 8:00 a.m. to 5:00 p.m.

• The Lansdale Public Library, 301 Vine St., Lansdale, PA 19446; phone (215) 855-3228, Monday through Friday 10:00 a.m. to 9:00 p.m.

FOR FURTHER INFORMATION CONTACT: Huu Ngo, Remedial Project Manager (3HS21), U.S. Environmental Protection Agency, Region III, 1650 Arch Street, Philadelphia, PA 19103-2029; (215) 814-3187; email: ngo.huu@epa.gov.

SUPPLEMENTARY INFORMATION: The portion of the Site to be deleted from the NPL is approximately 6.5 acres located at 135 East Hancock Street, within the former Tate Andale Property of the North Penn Area 6 Superfund Site, Lansdale Borough, Montgomery County, Pennsylvania. A Notice of Intent for Partial Deletion for this Site was published in the Federal Register (81 FR 94295) on December 23, 2016.

The closing date for comments on the Notice of Intent for Partial Deletion was January 23, 2017. Two public comments were received, which expressed concern regarding environmental risk and groundwater contamination. EPA responded to these comments by citing the soil and groundwater cleanups that have occurred, and the determination that, for the Administrative Parcel, the remedial action objectives for the soil and groundwater cleanups have been met and no further Superfund response actions are needed to protect human health and the environment. A responsiveness summary was prepared and placed in both the docket, EPA-HQ-SFUND-1989-0008, on www.regulations.gov, and in the local repositories listed above.

EPA maintains the NPL as the list of sites that appear to present a significant risk to public health, welfare, or the environment. Deletion of a site from the NPL does not preclude further remedial action. Whenever there is a significant release from a site deleted from the NPL, the deleted site may be restored to the NPL without application of the hazard ranking system. Deletion of portions of a site from the NPL does not affect responsible party liability, in the unlikely event that future conditions warrant further actions.

List of Subjects in 40 CFR Part 300

Environmental protection, Air pollution control, Chemicals, Hazardous waste, Hazardous substances, Intergovernmental relations, Penalties, Reporting and recordkeeping requirements, Superfund, Water pollution control, Water supply.

Dated: February 22, 2017.
Cecil Rodrigues,
Acting Regional Administrator, Region III.

For reasons set out in the preamble, 40 CFR part 300 is amended as follows:

PART 300—NATIONAL OIL AND HAZARDOUS SUBSTANCES POLLUTION CONTINGENCY PLAN

1. The authority citation for part 300 continues to read as follows:

Authority: 33 U.S.C. 1321(d); 42 U.S.C. 9601-9657; E.O. 13626, 77 FR 56749, 3 CFR, 2013 Comp., p. 306; E.O. 12777, 56 FR 54757, 3 CFR, 1991 Comp., p. 351; E.O. 12580, 52 FR 2923, 3 CFR, 1987 Comp., p. 193.

Appendix B to Part 300—[Amended]

2. Table 1 of appendix B to part 300 is amended by revising the entry for “PA,” “North Penn Area 6,” “Lansdale” to read as follows:

Appendix B to Part 300—National Priorities List

Table 1—General Superfund Section
State | Site name | City/county | Notes (ᵃ)
| * * * * * * *
PA | North Penn Area 6 | Lansdale | P
| * * * * * * *
(ᵃ) = Based on issuance of health advisory by Agency for Toxic Substances and Disease Registry (if scored, HRS score need not be greater than or equal to 28.50).
P = Sites with partial deletion(s).

* * * * *

[FR Doc. 2017-04120 Filed 3-2-17; 8:45 am]

BILLING CODE 6560-50-P